DEPARTMENT OF ENERGY

Federal Energy Regulatory Commission

Combined Notice of Filings #1

Take notice that the Commission received the following exempt wholesale generator filings:

Docket Numbers: EG25-334-000.

Applicants: RWE Clean Energy, LLC, Crowned Heron, LLC.

Description: Crowned Heron, LLC submits Notice of Self-Certification of Exempt Wholesale Generator Status.

Filed Date: 5/20/25.

Accession Number: 20250520-5160.

Comment Date: 5 p.m. ET 6/10/25.

Docket Numbers: EG25-335-000.

Applicants: RWE Clean Energy, LLC, Crowned Heron 2, LLC.

Description: Crowned Heron 2, LLC submits Notice of Self-Certification of Exempt Wholesale Generator Status.

Filed Date: 5/20/25.

Accession Number: 20250520-5161.

Comment Date: 5 p.m. ET 6/10/25.

Docket Numbers: EG25-336-000.

Applicants: Choctaw Fields Solar Project, LLC.

Description: Choctaw Fields Solar Project, LLC submits Notice of Self-Certification of Exempt Wholesale Generator Status.

Filed Date: 5/21/25.

Accession Number: 20250521-5040.

Comment Date: 5 p.m. ET 6/11/25.

Docket Numbers: EG25-337-000.

Applicants: Magnolia Power LLC.

Description: Magnolia Power LLC submits Notice of Self-Certification of Exempt Wholesale Generator Status.

Filed Date: 5/21/25.

Accession Number: 20250521-5082.

Comment Date: 5 p.m. ET 6/11/25.

Docket Numbers: EG25-338-000.

Applicants: Arche Energy Project Tenant, LLC.

Description: Arche Energy Project Tenant, LLC submits Notice of Self-Certification of Exempt Wholesale Generator Status.

Filed Date: 5/21/25.

Accession Number: 20250521-5083.

Comment Date: 5 p.m. ET 6/11/25.

Take notice that the Commission received the following electric rate filings:

Docket Numbers: ER10-2374-016; ER10-2374-018; ER17-2059-011; EL24-133-000; EL24-134-000.

Applicants: Puget Sound Energy, Inc., Puget Sound Energy, Inc., Puget Sound Energy, Inc., Puget Sound Energy, Inc.

Description: Response to 04/16/2025, Deficiency Letter of Puget Sound Energy, Inc.

Filed Date: 5/16/25.

Accession Number: 20250516-5227.

Comment Date: 5 p.m. ET 6/6/25.

Docket Numbers: ER22-2162-002.

Applicants: Deseret Generation & Transmission Co-operative, Inc.

Description: Compliance Filing to09/21/2023 Deseret Generation & Transmission Co-operative, Inc. tariff filing.

Filed Date: 1/10/25.

Accession Number: 20250110-5449.

Comment Date: 5 p.m. ET 6/11/25.

Docket Numbers: ER25-2270-000.

Applicants: Southwest Power Pool, Inc.

Description: 205(d) Rate Filing: 4390 WAPA/City of Brookings, SD Interconnection Agreement to be effective 5/20/2025.

Filed Date: 5/21/25.

Accession Number: 20250521-5012.

Comment Date: 5 p.m. ET 6/11/25.

Docket Numbers: ER25-2271-000.

Applicants: Arizona Public Service Company.

Description: Notice of Cancellation of Wires to Wires Interconnection and Operating Agreement of Arizona Public Service Company.

Filed Date: 5/15/25.

Accession Number: 20250515-5202.

Comment Date: 5 p.m. ET 6/5/25.

Docket Numbers: ER25-2272-000.

Applicants: Southwest Power Pool, Inc.

Description: 205(d) Rate Filing: 3026R1 Steele Flats GIA to be effective 4/28/2025.

Filed Date: 5/21/25.

Accession Number: 20250521-5023.

Comment Date: 5 p.m. ET 6/11/25.

Docket Numbers: ER25-2274-000.

Applicants: Ohio Power Company, AEP Ohio Transmission Company, Inc.

Description: 205(d) Rate Filing: Ohio Power Company submits tariff filing per 35.13(a)(2)(iii: AEP submits a FA with Village of Greenwich—SA No. 1423 to be effective 8/1/2025.

Filed Date: 5/21/25.

Accession Number: 20250521-5029.

Comment Date: 5 p.m. ET 6/11/25.

Docket Numbers: ER25-2275-000.

Applicants: Public Service Company of Colorado.

Description: 205(d) Rate Filing: 2025-05-21 PSC—PAC—LTF—Pt-to-Pt—873—0.0.0 to be effective 7/20/2025.

Filed Date: 5/21/25.

Accession Number: 20250521-5041.

Comment Date: 5 p.m. ET 6/11/25.

Docket Numbers: ER25-2276-000.

Applicants: Public Service Company of Colorado.

Description: 205(d) Rate Filing: 2025-05-21 PSC—PAC—LTF—Pt-to-Pt—871—0.0.0 to be effective 7/20/2025.

Filed Date: 5/21/25.

Accession Number: 20250521-5081.

Comment Date: 5 p.m. ET 6/11/25.

Docket Numbers: ER25-2277-000.

Applicants: West Camp Wind Farm, LLC.

Description: 205(d) Rate Filing: West Camp Wind Farm, LLC MBR Tariff to be effective 5/22/2025.

Filed Date: 5/21/25.

Accession Number: 20250521-5096.

Comment Date: 5 p.m. ET 6/11/25.

Docket Numbers: ER25-2278-000.

Applicants: NSTAR Electric Company.

Description: 205(d) Rate Filing: Fe Taft LLC—Related Facilities Agreement to be effective 5/22/2025.

Filed Date: 5/21/25.

Accession Number: 20250521-5097.

Comment Date: 5 p.m. ET 6/11/25.

Docket Numbers: ER25-2279-000.

Applicants: Tucson Electric Power Company.

Description: Tariff Amendment: Cancellation of Service Agreement No. 492 to be effective 5/7/2025.

Filed Date: 5/21/25.

Accession Number: 20250521-5100.

Comment Date: 5 p.m. ET 6/11/25.

Docket Numbers: ER25-2280-000.

Applicants: Tucson Electric Power Company.

Description: Tariff Amendment: Cancellation of Service Agreement No. 364 to be effective 8/31/2024.

Filed Date: 5/21/25.

Accession Number: 20250521-5135.

Comment Date: 5 p.m. ET 6/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 21, 2025,
Carlos D. Clay,
Deputy Secretary.

[FR Doc. 2025-09548 Filed 5-27-25; 8:45 am]

BILLING CODE 6717-01-P